DEPARTMENT OF AGRICULTURE

Grain Inspection, Packers and Stockyards Administration

Correction for the Omaha, NE; Marshall, MI; Frankfort, IN; Topeka, KS; and Minot, ND Areas; and Headquarters Telephone Number for Keokuk, IA

AGENCY: Grain Inspection, Packers and Stockyards Administration, USDA.

ACTION: Notice and correction.

SUMMARY: The U.S. Department of Agriculture, Grain Inspection, Packers and Stockyards Administration (GIPSA), published Notices in the Federal Register on February 9, 2012; May 30, 2012; and September 13, 2012 announcing the opportunity for designation for the Omaha, NE; Marshall, MI; Frankfort, IN; Topeka, KS; and Minot, ND Areas. The Notices incorrectly omitted grain elevators assigned inside and/or outside of the geographical areas. GIPSA also published a Notice in the Federal Register on February 26, 2013, which contained an incorrect telephone number for Keokuk Grain Inspection Service (Keokuk).

ADDRESSES: Eric J. Jabs, Chief, USDA, GIPSA, FGIS, QACD, QADB, 10383 North Ambassador Drive, Kansas City, MO 64153

FOR FURTHER INFORMATION CONTACT: Eric J. Jabs, 816-659-8408 or Eric.J.Jabs@usda.gov.

SUPPLEMENTARY INFORMATION: The Federal Register Notice published on February 9, 2012 for designation in the Topeka, KS and Minot, ND areas; the Federal Register Notice published on May 30, 2012 for designation in the Frankfort, IN area; and the Federal Register Notice published on September 13, 2012 for designation in the Omaha, NE and Marshall, MI areas incorrectly omitted grain elevators assigned inside and/or outside of the geographical areas. In addition, the Federal Register Notice published on February 26, 2013 contained an incorrect telephone number for Keokuk.

Correction: In the Federal Register Notice published on February 9, 2012 in FR Doc. 2012-6781, in the second column, the “Areas Open for Designation” “Kansas” paragraph is hereby corrected to include:

The following grain elevators are not part of this geographic area assignment and are assigned to: Hastings Grain Inspection, Inc.: Farmers Coop and Big Springs Elevator, both in Big Springs, Deuel County, Nebraska.

Correction: In the Federal Register Notice published on February 9, 2012 in FR Doc. 2012-6781, in the third column, the “Areas Open for Designation” “Minot” paragraph is hereby corrected to include:

The following grain elevators are part of this geographic area assignment: In Grain Inspection, Inc.'s, area: Benson Quinn Company, Underwood, and Falkirk Farmers Elevator, Washburn, both in McLean County, North Dakota.

Correction: In the Federal Register Notice published on May 30, 2012 in FR Doc. 2012-31830, in the third column, the “Areas Open for Designation” “Frankfort” paragraph is hereby corrected to include:

The following grain elevators are not part of this geographic area assignment and are assigned to: Titus Grain Inspection, Inc.: The Andersons, Delphi, Carroll County; Frick Services, Inc., Leiters Ford, Fulton County; and Cargill, Inc., Linden, Montgomery County, Indiana.

Correction: In the Federal Register Notice published on September 13, 2012 in FR Doc. 2012-56610, in the second column, the “Areas Open for Designation” “Omaha” paragraph is hereby corrected to include: The following grain elevators are part of this geographic area assignment: In Central Iowa Grain Inspection Service, Inc.'s, area: Scoular Elevator, Elliot, Montgomery County; and Scoular (2 elevators), Griswold, Cass County, Iowa. In Fremont Grain Inspection Department, Inc.'s, area: United Farmers Coop, Rising City, Butler County; and United Farmers Coop, Shelby, Polk County, Nebraska. In Lincoln Inspection Service, Inc.'s, area: Goode Seed Grain, McPaul, Fremont County, Iowa; and Haveman Grain, Murray, Cass County, Nebraska.

The following grain elevators are not part of this geographic area assignment and are assigned to: Fremont Grain Inspection Department, Inc.: Farmers Cooperative, and Krumel Grain and Storage, both in Wahoo, Saunders County, Nebraska.

Correction: In the Federal Register Notice published on September 13, 2012 in FR Doc. 2012-56610, in the first column, the “Areas Open for Designation” “Michigan” paragraph is hereby corrected to include:

The following grain elevator is not part of this geographic area assignment and is assigned to: Northeast Indiana Grain Inspection, Inc.: Trupointe Elevator, Payne, Paulding County, Ohio.

Correction: In the Federal Register Notice published on February 26, 2013 in FR Doc. 2013-13015, correct the “Headquarters locations and telephone” section for Keokuk to read: Keokuk, IA (319) 524-6482.

In the February 26, 2013 Federal Register (78 FR 13015), GIPSA announced the designation of Michigan Grain Inspection Services, Inc. for the Marshall, MI geographic area effective April 1, 2013 and the Omaha Grain Inspection Service, Inc. for the Omaha, NE geographic area effective April 1, 2013; in the December 28, 2012, Federal Register (77 FR 76451), the designation of the Frankfort Grain Inspection, Inc. for the Frankfort, IN geographic area was announced by GIPSA effective January 1, 2013; and in the May 30, 2012, Federal Register (77 FR 31831), the designation of the Kansas Grain Inspection Service, Inc. was announced for the Topeka, KS geographic area effective July 1, 2012; and the Minot Grain Inspection, Inc. for the Minot, ND geographic area effective July 1, 2012. The geographic areas for these official agencies are corrected as provided in this Notice.

Authority: 7 U.S.C. 71-87k.

Larry Mitchell,
Administrator, Grain Inspection, Packers and Stockyards Administration.

[FR Doc. 2013-17440 Filed 7-19-13; 8:45 am]

BILLING CODE 3410-KD-P